DEPARTMENT OF TRANSPORTATION

Federal Aviation Administration

14 CFR Part 39

[Docket No. FAA-2019-0254; Product Identifier 2019-NM-011-AD; Amendment 39-19763; AD 2019-20-10]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A318 and A319 series airplanes, Model A320-211, -212, -214, -216, -231, -232, and -233 airplanes, and Model A321-111, -112, -131, -211, -212, -213, -231, and -232 airplanes. This AD was prompted by a report that cracks were detected on frame (FR) 16 and FR 20 web holes and passenger door intercostal fitting holes at the door stop fitting locations. This AD requires repetitive rototest inspections of the holes at the door stop fittings for any cracking, and corrective actions if necessary, as specified in a European Aviation Safety Agency (EASA) AD, which is incorporated by reference. The FAA is issuing this AD to address the unsafe condition on these products.

DATES: This AD is effective December 18, 2019.

The Director of the Federal Register approved the incorporation by reference of a certain publication listed in this AD as of December 18, 2019.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0254.

Examining the AD Docket

You may examine the AD docket on the internet at https://www.regulations.gov by searching for and locating Docket No. FAA-2019-0254; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The FAA issued a notice of proposed rulemaking (NPRM) to amend 14 CFR part 39 by adding an AD that would apply to certain Airbus SAS Model A318 and A319 series airplanes, Model A320-211, -212, -214, -216, -231, -232, and -233 airplanes, and Model A321-111, -112, -131, -211, -212, -213, -231, and -232 airplanes. The NPRM published in the Federal Register on May 8, 2019 (84 FR 20054). The NPRM was prompted by a report that cracks were detected on FR 16 and FR 20 web holes and passenger door intercostal fitting holes at the door stop fitting locations. The NPRM proposed to require repetitive rototest inspections of the holes at the door stop fittings for any cracking, and corrective actions if necessary.

The FAA is issuing this AD to address such cracking, which could affect the structural integrity of the airplane.

The EASA, which is the Technical Agent for the Member States of the European Union, has issued EASA AD 2018-0289, dated December 21, 2018 (“EASA AD 2018-0289”) (referred to after this as the Mandatory Continuing Airworthiness Information, or “the MCAI”), to correct an unsafe condition for certain Airbus SAS Model A318 and A319 series airplanes, Model A320-211, -212, -214, -216, -231, -232, and -233 airplanes, and Model A321-111, -112, -131, -211, -212, -213, -231, and -232 airplanes. The FAA is issuing this AD to address cracking of FR 16 and FR 20 web holes and passenger door intercostal fitting holes at the door stop fitting locations. Such cracking could affect the structural integrity of the airplane. See the MCAI for additional background information.

You may examine the MCAI in the AD docket on the internet at https://www.regulations.gov by searching for and locating Docket No. FAA-2019-0254.

Comments

The FAA gave the public the opportunity to participate in developing this final rule. The following presents the comments received on the NPRM and the FAA's response to each comment.

Request To Provide Relief to Requirements in an Affected AD

Allegiant Air commented that the proposed AD states that no AD would be affected; however, it believes that AD 2018-25-02 would be affected by the proposed AD. Allegiant Air stated that paragraph (g)(1) of AD 2018-25-02 requires a revision to the existing maintenance or inspection program, as applicable, to incorporate Airbus A318/A319/A320/A321 Airworthiness Limitation Section Part 2—Damage Tolerant Airworthiness Limitation Items (DT-ALI), Variation 6.3, dated October 24, 2017. Allegiant Air commented that this variation includes ALI tasks 531103-01-2 and 531103-01-3, which EASA AD 2018-0289 indicated will be deleted from Airworthiness Limitation Section Part 2. Allegiant Air stated that if the NPRM becomes an AD, the proposed AD should be revised to show that it affects AD 2018-25-02, and it should also provide relief to the requirement to include these two ALI tasks in an operator's maintenance or inspection program. Allegiant Air further commented that EASA AD 2018-0289 states that Airbus Service Bulletin A320-53-1330 is a terminating action for the inspections required by ALI task 531103, which EASA AD 2018-0289 indicates will be deleted.

The FAA agrees to clarify. This AD does not supersede or terminate AD 2018-25-02. However, ALI tasks 531103-01-2 and 531103-01-3, which were incorporated into the maintenance or inspection program as part of the revision required by AD 2018-25-02, are affected. This AD allows those tasks to be terminated as specified in the provisions of EASA 2018-0289.

• As specified in paragraph (5) of EASA AD 2018-0289, the inspection requirements for ALI task 531103 are cancelled for an airplane if the optional terminating action specified in paragraph (5) of EASA AD 2018-0289 is done.

• As specified in paragraph (6) of EASA AD 2018-0289, the inspection requirements for ALI task 531103 are cancelled at repaired door stop locations if the optional terminating action specified in paragraphs (6) of EASA AD 2018-0289 is done.

• As specified in paragraph (7) of EASA AD 2018-0289, the inspection requirements for ALI task 531103 are cancelled if the applicable actions required by paragraphs (1) through (4) of EASA AD 2018-0289 are done.

The FAA has not changed this AD in this regard.

Request To Retain Certain Requirements

An anonymous commenter requested that the proposed AD and paragraphs (5) and (6) of EASA AD 2018-0289, dated December 21, 2018, be “retained in any FAA AD.” The commenter also requested that modification using Airbus Service Bulletin A320-53-1330 be counted as a terminating action to any FAA AD, and if this is not possible, then the commenter requested that the FAA retain the same requirements of paragraph (2) of EASA AD 2018-0289.

The FAA infers that the commenter wants to ensure that the proposed requirements and provisions are carried over into the final rule. For clarification, paragraphs (2), (5), and (6) of EASA AD 2018-0289 are included in the requirements of paragraph (g) of this AD, which requires compliance with all required actions and compliance times specified in, and in accordance with, EASA AD 2018-0289. All provisions, including credit and terminating action specified in EASA AD 2018-0289 also apply to this AD. The FAA has not changed this AD in this regard.

Request To Revise the Compliance Time

United Airlines (UAL) requested that ALI task 531103-01-2 be carried over in the proposed AD with a compliance time of up to 120 days from the effective date of the AD or until the ALI is deleted, whichever occurs later. UAL commented that EASA AD 2018-0289 specifies that ALI tasks 531103-01-2 and 531103-01-3 will be deleted by Airbus at the next airworthiness limitations section revision opportunity; therefore, there is no reason the ALI task cannot be carried over because ALI task 531103-01-2 and Airbus Service Bulletin A320-53-1339 describe procedures for the same open hole rotating probe high frequency eddy current inspection. UAL stated that the ALI task and the service information have the same inspection threshold and intervals. UAL stated that this will allow operators' maintenance program and engineering departments adequate time to transition internal task cards and/or engineering orders from the ALI task to the service information instructions; transitioning internal documents immediately after publication of the proposed AD is not feasible.

The FAA disagrees with the commenter's request. For clarification, EASA AD 2018-0289 is replacing the requirements imposed by ALI tasks 531103-01-2 and 531103-01-3. This AD, as specified in paragraphs (5), (6), and (7) of EASA AD 2018-0289, allows for the termination of the ALI tasks if the conditions stated in the applicable paragraph are met. Operators have the option to perform the repetitive inspections (no change to ALI tasks), or terminate the repetitive inspections by complying with the provisions specified in paragraphs (5), (6), or (7) of EASA AD 2018-0289. The FAA may issue separate rulemaking in the future that will require tasks that will replace the applicable existing ALI tasks. The FAA has not revised this AD in this regard.

Request To Use a Certain Repair Drawing

UAL requested that the FAA allow repair drawing R53113118 to be used for repair instructions as an alternative to the corrective action specified in paragraph (4) of EASA AD 2018-0289.

The FAA disagrees with the commenter's request. The repair drawing will vary based on the configuration of the airplane and the extent of the findings during the inspection. However, any person may request approval of an alternative method of compliance (AMOC) under the provisions of paragraph (i) of this AD. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2018-0289 describes procedures for repetitive rototest inspections of the holes at the door stop fittings for any cracking, and corrective actions if necessary. This material is reasonably available because the interested parties have access to it through their normal course of business or by the means identified in the ADDRESSES section.

Costs of Compliance

The FAA estimates that this AD affects 1,229 airplanes of U.S. registry. The FAA estimates the following costs to comply with this AD:

Estimated Costs for Required Actions
Labor cost | Parts cost | Cost per product | Cost on U.S. operators
33 work-hours × $85 per hour = $2,805 | $0 | $2,805 | $3,447,345

The FAA estimates the following costs to do any necessary on-condition actions that would be required based on the results of any required actions. The FAA has no way of determining the number of aircraft that might need this on-condition action:

Estimated Costs for On-Condition Actions
Labor cost | Parts cost | Cost per product
51 work-hours × $85 per hour = $4,335 | $350 | $4,685

The FAA has received no definitive data that would enable the agency to provide cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-20-10 Airbus SAS: Amendment 39-19763; Docket No. FAA-2019-0254; Product Identifier 2019-NM-011-AD.

(a) Effective Date

This AD is effective December 18, 2019.

(b) Affected ADs

None.

(c) Applicability

This AD applies to the Airbus SAS airplanes specified in paragraphs (c)(1) through (4) of this AD, certificated in any category, as identified in European Aviation Safety Agency (EASA) AD 2018-0289, dated December 21, 2018 (“EASA AD 2018-0289”).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report that cracks were detected on frame (FR) 16 and FR 20 web holes and passenger door intercostal fitting holes at the door stop fitting locations. The FAA is issuing this AD to address such cracking, which could affect the structural integrity of the airplane.

(f) Compliance

Comply with this AD within the compliance times specified, unless already done.

(g) Requirements

Except as specified in paragraph (h) of this AD: Comply with all required actions and compliance times specified in, and in accordance with, EASA AD 2018-0289.

(h) Exceptions to EASA AD 2018-0289

(1) For purposes of determining compliance with the requirements of this AD: Where EASA AD 2018-0289 refers to its effective date, this AD requires using the effective date of this AD.

(2) The “Remarks” section of EASA AD 2018-0289 does not apply to this AD.

(3) Where Table 1 of EASA AD 2018-0289 refers to a compliance time “after 31 May 2017,” this AD requires using a compliance time after May 31, 2018 (the effective date of task 531103-01-1 in “ALS Part 2 rev. 6”).

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0289 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0289, dated December 21, 2018.

(ii) [Reserved]

(3) For EASA AD 2018-0289, contact the EASA, Konrad-Adenauer-Ufer 3, 50668 Cologne, Germany; telephone +49 221 89990 6017; email ADs@easa.europa.eu; Internet www.easa.europa.eu. You may find this EASA AD on the EASA website at https://ad.easa.europa.eu.

(4) You may view this material at the FAA, Transport Standards Branch, 2200 South 216th St., Des Moines, WA. For information on the availability of this material at the FAA, call 206-231-3195. EASA AD 2018-0289 may be found in the AD docket on the internet at https://www.regulations.gov by searching for and locating Docket No. FAA-2019-0254.

(5) You may view this material that is incorporated by reference at the National Archives and Records Administration (NARA). For information on the availability of this material at NARA, email fedreg.legal@nara.gov, or go to: https://www.archives.gov/federal-register/cfr/ibr-locations.html.

Issued in Des Moines, Washington, on October 18, 2019.
Michael Kaszycki,
Acting Director, System Oversight Division, Aircraft Certification Service.

[FR Doc. 2019-24508 Filed 11-12-19; 8:45 am]

BILLING CODE 4910-13-P